DEPARTMENT OF HEALTH AND HUMAN SERVICES

Centers for Medicare & Medicaid Services

42 CFR Part 414

[CMS-1561-NC]

RIN 0938-AP59

Medicare Program; Changes to the Competitive Acquisition of Certain Durable Medical Equipment, Prosthetics, Orthotics and Supplies (DMEPOS) by Certain Provisions of the Medicare Improvements for Patients and Providers Act of 2008 (MIPPA)

Correction

In proposed rule document E9-2839 beginning on page 6557 in the issue of Tuesday, February 10, 2009, make the following correction:

On page 6557, in the third column, in the DATES heading, “February 13, 2009” should read “February 12, 2009”.

[FR Doc. Z9-2839 Filed 2-10-09; 4:15 pm]

BILLING CODE 1505-01-D